SOCIAL SECURITY ADMINISTRATION

Agency Information Collection Activities: Proposed Request

The Social Security Administration (SSA) publishes a list of information collection packages that will require clearance by the Office of Management and Budget (OMB) in compliance with Pub. L. 104-13, the Paperwork Reduction Act of 1995, effective October 1, 1995. The information collection packages that may be included in this notice are for new information collection.

SSA is soliciting comments on the accuracy of the agency's burden estimate; the need for the information; its practical utility; ways to enhance its quality, utility, and clarity; and on ways to minimize burden on respondents, including the use of automated collection techniques or other forms of information technology. Written comments and recommendations regarding the information collection(s) should be submitted to the SSA Reports Clearance Officer. The information can be mailed and/or faxed to the individuals at the addresses and fax numbers listed below: (SSA) Social Security Administration, DCFAM, Attn: Reports Clearance Officer, 1333 Annex Building, 6401 Security Blvd., Baltimore, MD 21235. Fax: 410-965-6400. E-mail: OPLM.RCO@ssa.gov.

The information collections listed below are pending at SSA and will be submitted to OMB within 60 days from the date of this notice. Therefore, your comments should be submitted to SSA within 60 days from the date of this publication. You can obtain copies of the collection instruments by calling the SSA Reports Clearance Officer at 410-965-0454 or by writing to the address listed above.

Section 107 Representative Payee Study—0960-NEW. As mandated by section 107 of the Social Security Protection Act of 2004, the Social Security Administration is sponsoring an independently conducted study evaluating the Representative Payee Program. In this study, selected groups of SSA beneficiaries and representative payees will be interviewed about their experiences within the program. These two groups' responses will then be compared and contrasted. A re-contact interview will be conducted with 100 representative payees identified as demonstrating characteristics of abusers of the representative payee system. The ultimate purpose of the study is to evaluate the knowledge level and performance of representative payees vis-à-vis the standards established for them by SSA. The respondents are recipients of SSA benefits (adults and ages 14-17) and representative payees (individuals and organizations).

Type of Request: New information collection.

| Number of respondents | Frequency of response | Average burden per response (min) | Estimated annual burden (hr)
SSA Beneficiaries | 2,565 | 1 | 45 | 1,924
Representative Payees | 5,130 | 1 | 55 | 4,703
Representative Payees (Re-contact study) | 100 | 1 | 55 | 92
Totals | 7,795 |  |  | 6,719

Total Estimated Annual Burden: 6,719 hours.

Dated: February 6, 2006.
Elizabeth A. Davidson,
Reports Clearance Officer, Social Security Administration.

[FR Doc. E6-1940 Filed 2-10-06; 8:45 am]

BILLING CODE 4191-02-P